DEPARTMENT OF STATE

[Delegation of Authority No. 474]

Delegation of Authority To Concur With Decisions by the Secretary of Energy To Enter Into Agreements Relating to Contributions for Certain Nonproliferation Programs

By virtue of the authority vested in the Secretary of State, including section 1 of the State Department Basic Authorities Act, as amended (22 U.S.C. 2651a), and to the extent authorized by law, I hereby delegate to the Under Secretary for Arms Control and International Security the authority to concur with decisions by the Secretary of Energy to enter into agreements relating to contributions for certain Department of Energy nonproliferation programs, as described in 50 U.S.C. 2569(f).

The Secretary or the Deputy Secretary may at any time exercise any authority or function delegated by this delegation of authority. Any act, authority, or procedure subject to, or affected by, this delegation shall be deemed to be such act, authority, or procedure as amended from time to time.

This delegation of authority shall be published in the Federal Register.

Dated: July 2, 2019.
Michael R. Pompeo,
Secretary of State, Department of State.

[FR Doc. 2019-17321 Filed 8-12-19; 8:45 am]

BILLING CODE 4710-27-P